DEPARTMENT OF COMMERCE

International Trade Administration

[A-520-803]

Polyethylene Terephthalate Film, Sheet, and Strip From the United Arab Emirates: Preliminary Results of Antidumping Duty Administrative Review

AGENCY: Import Administration, International Trade Administration, Department of Commerce.

SUMMARY: The Department of Commerce (the Department) is conducting an administrative review of the antidumping duty order on polyethylene terephthalate film, sheet, and strip (PET Film) from the United Arab Emirates (UAE). This review covers respondents, JBF RAK LLC (JBF), and FLEX Middle East FZE (FLEX), producers and exporters of PET Film from the UAE. The Department preliminarily determines that sales of PET Film from the UAE have been made below normal value (NV) during the November 6, 2008, through October 31, 2009 period of review. The preliminary results are listed below in the section titled “Preliminary Results of Review.” Interested parties are invited to comment on these preliminary results.

DATES: Effective Date: December 17, 2010.

FOR FURTHER INFORMATION CONTACT: Andrew Huston, or Jun Jack Zhao, AD/CVD Operations, Office 6, Import Administration, International Trade Administration, U.S. Department of Commerce, 14th Street and Constitution Avenue, NW., Washington, DC 20230; telephone: (202) 482-4261 or (202) 482-1396, respectively.

SUPPLEMENTARY INFORMATION:

Background

On November 10, 2008, the Department published in the Federal Register the antidumping duty order on PET Film from the UAE. See Polyethylene Terephthalate Film, Sheet, and Strip From Brazil, the People's Republic of China and the United Arab Emirates: Antidumping Duty Orders and Amended Final Determination of Sales at Less Than Fair Value for the United Arab Emirates, 73 FR 66595 (November 10, 2008) (Order). On November 2, 2009, the Department published a notice of opportunity to request an administrative review of this order. See Antidumping or Countervailing Duty Order, Finding, or Suspended Investigation: Opportunity to Request Administrative Review, 74 FR 56573 (November 2, 2009). In response, on November 24, 2009, and November 30, 2009, JBF and FLEX, respectively, requested that the Department conduct an administrative review of their sales of PET Film in the U.S. market. On November 30, 2009, Dupont Teijin Films, Mitsubishi Polyester Film, Inc., SKC, Inc. and Toray Plastics (America) Inc. (collectively, the petitioners) requested administrative reviews of JBF and FLEX.

On December 23, 2009, the Department initiated an administrative review of JBF and FLEX. See Initiation of Antidumping and Countervailing Duty Administrative Reviews and Request for Revocation in Part, 74 FR 68229, 68232 (December 23, 2009). On January 7, 2010, the Department issued an antidumping duty questionnaire to the respondents. FLEX timely submitted section A of the questionnaire on January 29, 2010, and sections B and C on February 19, 2010. JBF timely submitted its section A of the questionnaire on February 9, 2010, and sections B and C on March 4, 2010. On April 19, 2010, JBF submitted additional information regarding its responses to sections B and C of the original questionnaire. On June 4, 2010, JBF submitted information requested by the Department regarding its reported exports to the United States. Also on June 4, 2010, the Department issued a supplemental questionnaire to FLEX; FLEX submitted its timely response on July 23, 2010. On June 15, 2010, the Department issued a supplemental questionnaire to JBF; JBF submitted its timely response on July 13, 2010.

On May 6, 2010, the petitioners submitted an allegation of sales at prices below the cost of production (COP) against JBF and requested that the Department issue a section D questionnaire to JBF. On May 11, 2010, JBF filed comments on the petitioners’ sales below cost allegation, claiming that the petitioners’ allegation was untimely. On May 21, 2010, the petitioners provided additional information requested by the Department, to establish that sales below COP by JBF were representative of the broader range of foreign products which may be used to determine the NV of U.S. products. On June 21, 2010, the Department found that there was sufficient information to initiate an investigation of whether JBF had made home market sales at prices below COP. See Memorandum to Barbara Tillman, “The Petitioners’ Allegation of Sales Below the Cost of Production,” (June 21, 2010) (COP Initiation Memorandum).¹ In the COP Initiation Memorandum, the Department determined that, because JBF filed information on April 19, 2010 that had not been provided with its original March 4, 2010 response, the submission was incomplete and the petitioners” sales-below-cost allegation was timely filed (i.e., within 20 days of the April 19, 2010 response), in accordance with 19 CFR 351.301(d)(2)(ii). On June 28, 2010, the Department issued a request for JBF to complete section D of the original questionnaire; JBF submitted its response on August 10, 2010.

¹ Public versions of all memoranda referenced in this notice are on file in the Department's Central Records Unit (CRU) in Room 7046 of the main Department building.

On June 4, 2010, JBF submitted information requested by the Department regarding its reported exports to the United States. Also on June 4, 2010, the Department issued a supplemental questionnaire to FLEX; FLEX submitted its timely response on July 23, 2010. On June 15, 2010, the Department issued a supplemental questionnaire to JBF; JBF submitted its timely response on July 13, 2010. On July 14, 2010, the Department extended the time period for issuing the preliminary results of the administrative review. See Polyethylene Terephthalate Film, Sheet and Strip From the United Arab Emirates: Extension of Time Limit for Preliminary Results of Antidumping Duty Administrative Review, 75 FR 40776 (July 14, 2010). On August 3, 2010, FLEX submitted revised section B and C responses to correct certain formatting errors in their submission of July 23, 2010. On August 23, 2010, the Department issued a second supplemental questionnaire to JBF; JBF submitted a timely response on September 1, 2010. On August 27, 2010, the Department issued a supplemental section D questionnaire to JBF; JBF submitted a timely response on September 23, 2010. On September 27, 2010, the Department issued a second supplemental section D questionnaire; JBF submitted a timely response on October 5, 2010. JBF submitted minor corrections to previously filed information on November 18, 2010. As discussed below, these corrections concerned its knowledge that certain sales included in its home market sales database were being exported to third countries.

Verification

A cost verification of JBF was conducted from October 24 through October 28, 2010. See Memorandum to Neal M. Halper, “Verification of Cost Response of JBF RAK LLC in the Antidumping Review of Polyethylene Terephthalate (PET) Film from the United Arab Emirates,” (November 30, 2010) (Cost Verification Report). The Department intends to conduct a sales verification of JBF following the issuance of these preliminary results of review.

Scope of the Order

The products covered by the order are all gauges of raw, pre-treated, or primed polyethylene terephthalate film, whether extruded or co-extruded. Excluded are metallized films and other finished films that have had at least one of their surfaces modified by the application of a performance-enhancing resinous or inorganic layer more than 0.00001 inches thick. Also excluded is roller transport cleaning film which has at least one of its surfaces modified by application of 0.5 micrometers of SBR latex. Tracing and drafting film is also excluded. PET Film is classifiable under subheading 3920.62.00.90 of the Harmonized Tariff Schedule of the United States (HTSUS). While HTSUS subheadings are provided for convenience and customs purposes, our written description of the scope of the order is dispositive.

Period of Review

Since this is the first administrative review, the period of review (POR) is different from the standard twelve month POR. The POR is November 6, 2008 through October 31, 2009.²

² November 6, 2008, is the date the International Trade Commission (ITC) published its final determination that the domestic industry was threatened with material injury. According to section 736(b)(2) of the Tariff Act of 1930, as amended (the Act), the Department cannot assess duties on merchandise entered, or withdrawn from warehouse, for consumption, before the publication date of the final affirmative ITC determination when the ITC finds the domestic industry was “threatened with material injury.” Therefore, in such cases, and in accordance with 19 CFR 213(e)(1)(ii), the first administrative review must begin on the publication date of the ITC's final determination.

Comparisons to Normal Value

To determine whether sales of PET Film were made at less than NV, we compared the respondents' export price (EP) or constructed export price (CEP) sales made in the United States to unaffiliated customers to NV, as described below in the “Normal Value” section of this notice. In accordance with section 777A(d)(2) of the Act, we compared the EP and CEP of individual transactions to monthly weighted-average NVs.

Product Comparisons

Pursuant to section 771(16) of the Act, we determined that products sold by the respondents, as described in the “Scope of the Order” section, above, and sold in the UAE during the POR, to be foreign like products for purposes of determining appropriate product comparisons to U.S. sales. We have relied on four criteria to match U.S. sales of subject merchandise to comparison-market sales: Specification, thickness, thickness category, and surface treatment. Where there were no sales of identical merchandise in the home market to compare to U.S. sales, we compared U.S. sales to the most similar foreign like product on the basis of the characteristics listed above.

Arm's-Length Test

The Department may calculate NV based on a sale to an affiliated party only if it is satisfied that the price to the affiliated party is comparable to the prices at which sales are made to parties not affiliated with the exporter or producer; i.e., sales to home market affiliates must be at arm's-length. See 19 CFR 351.403(c). Sales to affiliated customers for consumption in the home market that are determined not to be at arm's-length are excluded from our analysis. To test whether sales are made at arm's-length prices, the Department compares the prices of sales of comparable merchandise to affiliated and unaffiliated customers, net of all movement charges, direct selling expenses, and packing. Pursuant to 19 CFR 351.403(c), and in accordance with the Department's practice, when the prices charged to an affiliated party are, on average, between 98 and 102 percent of the prices charged to unaffiliated parties for merchandise comparable to that sold to the affiliated party, we determine that the sales to the affiliated party are at arm's-length. See Antidumping Proceedings: Affiliated Party Sales in the Ordinary Course of Trade, 67 FR 69186, 69187 (November 15, 2002). In this proceeding, neither FLEX nor JBF reported sales to affiliates in the home market.

Level of Trade

To determine whether NV sales are at a different level of trade (LOT) than U.S. sales, we examine selling functions along the chain of distribution between the respondent and the unaffiliated customer for EP sales and between the respondent and the affiliated U.S. importer for CEP sales. If the comparison market sales are at a different LOT, and the difference affects price comparability, as manifested in a pattern of consistent price differences between the sales on which NV is based and comparison market sales at the LOT of the export transaction, we make an LOT adjustment pursuant to section 773(a)(7)(A) of the Act.

In implementing these principles, we examined information provided by JBF and FLEX regarding the selling functions involved in their home market and U.S. sales, including a description of these selling functions, listed in Attachment 2 (Level of Trade Analysis) of FLEX's July 23, 2010 submission and Exhibit A-5 of JBF's February 9, 2010 submission. Our analysis revealed that there were not any significant differences in selling functions between different channels of distribution or customer type in either the home or U.S. markets. Therefore, we preliminarily determine that FLEX and JBF each made all home-market sales at one level of trade. Moreover, we preliminarily determine that all home-market sales by FLEX and JBF were made at the same level of trade as their U.S. sales. Accordingly, an LOT adjustment is not warranted.

Likewise, the CEP offset requested by FLEX is not warranted. Because FLEX's selling functions for the U.S. and home market sales do not differ and all home-market sales were made at the same level of trade as its U.S. sales, we have not applied a CEP offset in accordance with section 773(a)(7)(B) of the Act.

Date of Sale

The Department will normally use invoice date, as recorded in the exporter's or producer's records kept in the ordinary course of business, as the date of sale, but may use a date other than the invoice date if it better reflects the date on which the material terms of sale are established. See 19 CFR 351.401(i). For both JBF and FLEX, we preliminarily determine that no departure from our standard practice is warranted. Both companies reported invoice date as date of sale, and the record does not indicate that material terms of sale are established at a later date or earlier in the sales process. For certain sales, however, shipment took place a few days earlier than invoice date. For such sales, we have used shipment date to the customer as date of sale rather than invoice, consistent with Department practice that assumes terms of sale are fixed at the time of shipment.

JBF Margin Calculation

Export Price

The Department based the price of all U.S. sales of subject merchandise by JBF on EP as defined in section 772(a) of the Act because the merchandise was sold before importation by the producer or exporter of the subject merchandise outside the United States to an unaffiliated purchaser in the United States. We calculated EP based on the packed price to unaffiliated purchasers in the United States, as appropriate. See section 772(c) of the Act. We made adjustments to price for billing adjustments, where applicable, and deducted all movement expenses reported by JBF.

Normal Value

A. Selection of Comparison Market

To determine whether there was a sufficient volume of sales of PET Film in the home market to serve as a viable basis for calculating NV, we compared the volume of respondent's home market sales of the foreign like product to the volume of their U.S. sales of the subject merchandise, in accordance with section 773(a)(1) of the Act. In their November 18, 2010 submission, JBF identified certain transactions, originally reported as home market sales, that it claims it knew were exported. Where it was possible to identify in the database that JBF knew that a shipment was destined for a third country market, which in turn meant that JBF knew that the sale was exported, we removed those transactions from the home market sales database. In accordance with section 773(a)(1)(B) of the Act, and 19 CFR 351.404(b), because JBF's revised aggregate volume of home market sales of the foreign like product was greater than five percent of its aggregate volume of U.S. sales of the subject merchandise, we find that the home market was viable for comparison purposes.

B. Cost of Production Analysis

In accordance with section 773(b)(2)(A) of the Act, to initiate a COP investigation the Department must have “reasonable grounds” to believe or suspect that sales of the foreign like product under consideration for the determination of NV have been made at prices below the COP of that product. An allegation will be deemed to have provided reasonable grounds if: (1) A reasonable methodology is used in the calculation of the COP including the use of the respondent's actual data, if available; (2) using this methodology, sales are shown to be made at prices below the COP; and (3) the sales allegedly made at below cost are representative of a broader range of foreign models which may be used as a basis for NV. See section 773(b)(2)(A)(i) of the Act and Notice of Preliminary Results of the New Shipper Review of the Antidumping Duty Order on Certain Hot-Rolled Flat-Rolled Carbon Quality Steel Products from Brazil, 70 FR 48668, 48670 (August 19, 2005), unchanged in Notice of Final Results of New Shipper Review of the Antidumping Duty Order on Certain Hot-Rolled Flat-Rolled Carbon Quality Steel Products from Brazil, 70 FR 62297 (October 31, 2005). The Department found that pursuant to 773(b)(2)(A)(i) of the Act, the petitioners, referencing section B of JBF's March 4, 2010 questionnaire response, provided in their allegation a reasonable basis to believe or suspect that JBF was selling PET Film at below the COP. See COP Initiation Memorandum. As a result, the Department is directed under section 773(b) of the Act to determine whether JBF made home market sales during the POR at prices below COP.

C. Calculation of COP

In accordance with section 773(b)(3) of the Act, we calculated COP based on the sum of JBF's cost of materials and fabrication for the foreign like product, plus amounts for selling, general, and administrative expenses, interest expenses and home market packing costs. See Memorandum to Neal M. Halper, Director, Office of Accounting, “Cost of Production and Constructed Value Calculation Adjustments for the Preliminary Results—JBF RAK LLC” (December 7, 2010) (JBF Cost Memorandum).

The Department's normal practice is to calculate an annual weighted-average cost for the entire period of investigation or POR. See, e.g., Certain Pasta From Italy: Final Results of Antidumping Duty Administrative Review, 65 FR 77852 (December 13, 2000) and accompanying Issues and Decision Memorandum at Comment 18. However, the Department recognizes that possible distortions may result if our normal annual-average cost methodology is used during a period of significant cost changes. The Department determines whether to deviate from our normal methodology of calculating an annual weighted-average cost by evaluating two primary factors: (1) whether the change in the cost of manufacturing recognized by the respondent during the POR is deemed significant (i.e., greater than 25 percent); and (2) whether the record evidence indicates that sales during the shorter averaging periods could be reasonably linked with the COP during the same shorter averaging periods. See Stainless Steel Plate in Coils From Belgium: Final Results of Antidumping Duty Administrative Review, 73 FR 75398, 75399 (December 11, 2008) and Certain Welded Stainless Steel Pipes From the Republic of Korea: Final Results of Antidumping Duty Administrative Review, 74 FR 31242 (June 30, 2009). We preliminarily determine that the record evidence does not satisfy the first criterion and, thus, we also determine that JBF's quarterly cost data should not be used for these preliminary results. We calculated the change from the low quarter to the high quarter of the POR for all significant raw material inputs and found that there was no significant change in costs for a majority of the raw materials purchased (i.e., that the change in cost over the POR did not meet our 25 percent significance threshold). As there was not a significant change in raw material costs, we determined that there was no need to depart from our average annual cost methodology. Based on our analysis of JBF's questionnaire responses and our findings at the cost verification, we made the following adjustments to JBF's reported COP.

• We reallocated the total cost of non-recyclable film lumps to all PET film products produced during the POR.

• We increased the reported COP to exclude credits related to depreciation recorded outside of the POR and to include depreciation for October 2009.

• We adjusted the cost of chips transferred from the chips division to reflect chips division conversion costs as well as raw material rebates and credits.

• We adjusted the reported conversion costs to exclude the cost of metalizing materials included in manufacturing expenses.

• We revised the general and administrative expense ratio to exclude selling expenses that are either double counted in the U.S. or home market sales files or properly excluded.

• We used the financial expense ratio submitted in JBF's October 5, 2010 section D response.

See JBF Cost Memorandum and Cost Verification Report.

D. Cost of Production Test

On a product-specific basis, we compared the revised COP figures to home market prices, net of applicable billing adjustments, discounts and rebates, movement charges, selling expenses, and packing, to determine whether home market sales had been made at prices below COP. (We first removed those transactions that the Department was able to confirm from the information on the record were export sales to third countries which JBF had reported in its November 18, 2010 submission, as noted above.) In determining whether to disregard home market sales made at prices below COP, we examined, in accordance with sections 773(b)(1)(A) and (B) of the Act, whether, within an extended period of time, such sales were made in substantial quantities, and whether such sales were made at prices which did not permit the recovery of all costs within a reasonable period of time in the normal course of trade. In accordance with section 773(b) of the Act, where less than 20 percent of a given product was sold at prices less than COP, we did not disregard any below-cost sales of that product, because the below-cost sales were not made in “substantial quantities.” We did however disregard the below cost sales that: (1) Have been made within an extended period of time (within six months to one year) in substantial quantities (20 percent or more), as defined by section 773(b)(2)(B) and (C) of the Act; and (2) were not made at prices which permit recovery of all costs within a reasonable period of time, as prescribed by section 773(b)(2(D) of the Act. Accordingly, we determined that JBF had sales that may be disregarded in the determination of NV because (1) 20 percent or more of a given product was sold as prices less than COP and (2) based on our comparison of prices to weighted-average COP figured for the POR, they were made at prices that would not permit recovery of all costs within a reasonable period of time. We used the remaining home market sales as the basis for determining NV, in accordance with section 773(b)(1) of the Act.

E. Constructed Value

After disregarding certain sales as below cost, as described above, home market sales of contemporaneous identical and similar products existed that allowed for price-to-price comparisons for all margin calculations. Therefore, the Department did not need to rely on constructed value for any calculations for these preliminary results.

F. Price-to-Price Comparisons

We calculated NV based on packed prices to unaffiliated customers in the home market. We used JBF's adjustments and deductions as reported. We made deductions, where appropriate, for foreign inland freight pursuant to section 773(a)(6)(B) of the Act. In addition, for comparisons involving similar merchandise, we made adjustments for cost differences attributable to the physical differences between the products compared, pursuant to section 773(a)(6)(C)(ii) of the Act and 19 CFR 351.411. We also made adjustments for differences in circumstances of sale (COS) in accordance with section 773(a)(6)(C)(iii) of the Act and 19 CFR 351.410. Specifically, we made COS adjustments for imputed credit expenses as well as credit insurance expense and demurrage, which JBF tied to specific U.S. invoices, in accordance with section 772(c)(2)(A) of the Act (other than imputed credit expenses, JBF reported no home market direct selling expenses). Finally, we added U.S. packing costs and deducted home market packing costs, in accordance with sections 773(a)(6)(A) and (B) of the Act, respectively.

FLEX's Margin Calculation

Constructed Export Price

In calculating the antidumping duty margins for FLEX, we used CEP, as defined in section 772(b) of the Act, because all sales were made through FLEX America, a company affiliated with FLEX. We made deductions from CEP for all movement expenses reported by FLEX, as well as imputed credit expenses, and several direct expenses, including documentation charges, credit insurance expenses, terminal handling charges, demurrage charges, and several other fees, like port security charges, incurred on U.S. sales. In addition, we deducted indirect selling expenses associated with economic activity in the United States and imputed inventory carrying costs incurred by FLEX America. See sections 772(c)(2)(A) and 772(d)(1) of the Act. Finally, pursuant to section 772(d)(3) of the Act, we made an adjustment for CEP profit; i.e., profit associated with economic activity in the United States.

Normal Value

A. Selection of Comparison Market

To determine whether there was a sufficient volume of sales of PET Film in the home market to serve as a viable basis for calculating NV, we compared the volume of respondent's home market sales of the foreign like product to the volume of their U.S. sales of the subject merchandise, in accordance with section 773(a)(1) of the Act. In accordance with section 773(a)(1)(B) of the Act, and 19 CFR 351.404(b), because FLEX's aggregate volume of home market sales of the foreign like product was greater than five percent of its aggregate volume of U.S. sales of the subject merchandise, we have determined that the home market was viable for comparison purposes. No COP analysis was conducted for FLEX because there was no allegation of sales below COP by the petitioners in this review, nor is there reason to believe or suspect sales below COP in this review based on a finding of sales below COP in the investigation.

B. Price-to-Price Comparisons

We calculated NV based on packed prices to unaffiliated customers in the home market. We made deductions for foreign inland freight pursuant to section 773(a)(6)(B) of the Act, imputed credit expenses, and credit insurance expenses, and demurrage charges. In addition, for comparisons involving similar merchandise, we made adjustments for cost differences attributable to the physical differences between the products compared, pursuant to section 773(a)(6)(C)(ii) of the Act and 19 CFR 351.411. Finally, we deducted home market packing costs and added U.S. packing costs in accordance with sections 773(a)(6)(A) and (B) of the Act.

Currency Conversions

Pursuant to section 773(A) of the Act and 19 CFR 351.415, we made currency conversions for FLEX's and JBF's sales based on the daily exchange rates in effect on the dates of the relevant U.S. sales as certified by the Federal Reserve Bank of New York.

Preliminary Results of Review

As a result of our review, we preliminarily determine the following weighted-average dumping margins exist for the period November 6, 2008, through October 31, 2009.

Manufacturer/Exporter | Weighted-Average margin (percent)
JBF RAK LLC | 4.76
FLEX Middle East FZE | 3.16

Assessment Rates

The Department shall determine, and U.S. Customs and Border Protection (CBP) shall assess, antidumping duties on all appropriate entries. We will instruct CBP to liquidate entries of merchandise produced and/or exported by JBF and FLEX. The Department intends to issue assessment instructions to CBP 15 days after the date of publication of the final results of review. For assessment purposes, where the respondents reported the entered value for their sales, we calculated importer-specific (or customer-specific) ad valorem assessment rates based on the ratio of the total amount of the dumping duties calculated for the examined sales to the total entered value of those same sales. See 19 CFR 351.212(b). However, where the respondents did not report the entered value for their sales, we will calculate importer-specific (or customer-specific) per unit duty assessment rates. We will instruct CBP to assess antidumping duties on all appropriate entries covered by this review if any assessment rate calculated in the final results of this review is above de minimis.

Cash Deposit Requirements

The following deposit requirements will be effective for all shipments of PET Film from the UAE entered, or withdrawn from warehouse, for consumption on or after the date of publication of the final results of this administrative review, as provided for by section 751(a)(2)(C) of the Act: (1) The cash deposit rate for companies under review will be the rate established in the final results of this review (except, if the rate is zero or de minimis, i.e., less than 0.5 percent, no cash deposit will be required); (2) for previously reviewed or investigated companies not listed above, the cash deposit rate will continue to be the company-specific rate published for the most recent period; (3) if the exporter is not a firm covered in this review, a prior review, or the less-than-fair-value investigation, but the manufacturer is, the cash deposit rate will be the rate established for the most recent period for the manufacturer of the merchandise; and, (4) if neither the exporter nor the manufacturer is a firm covered in this or any previous review, the cash deposit rate will be the all others rate for this proceeding, 4.05 percent.³ These deposit requirements, when imposed, shall remain in effect until further notice.

³ See Order, 73 FR at 66597.

Disclosure and Public Comment

We will disclose the calculations used in our analysis to parties in this review within five days of the date of publication of this notice in accordance with 19 CFR 351.224(b). Any interested party may request a hearing within 30 days of the publication of this notice in the Federal Register. See 19 CFR 351.310. If a hearing is requested, the Department will notify interested parties of the hearing schedule.

Interested parties are invited to comment on the preliminary results of this review. Unless extended by the Department, interested parties must submit case briefs within 30 days of the date of publication of this notice. Rebuttal briefs, which must be limited to issues raised in the case briefs, must be filed not later than five days after the time limit for filing case briefs. See 19 CFR 351.309(c) and (d) (for a further discussion of case briefs and rebuttal briefs, respectively). Parties who submit case briefs or rebuttal briefs in this review are requested to submit with each argument: (1) A statement of the issue, (2) a brief summary of the argument, and (3) a table of authorities. Executive summaries should be limited to five pages total, including footnotes.

We intend to issue the final results of this administrative review, including the results of our analysis of issues raised in the written comments, within 120 days of publication of these preliminary results in the Federal Register, unless otherwise extended. See section 751(a)(3)(A) of the Act.

Notification to Importers

This notice also serves as a preliminary reminder to importers of their responsibility under 19 CFR 351.402(f) to file a certificate regarding the reimbursement of antidumping duties prior to liquidation of the relevant entries during this review period. Failure to comply with this requirement could result in the Department's presumption that reimbursement of antidumping duties occurred and the subsequent assessment of doubled antidumping duties.

These preliminary results of administrative review are issued and published in accordance with sections 751(a)(1) and 777(i)(1) of the Act.

Dated: December 7, 2010.
Paul Piquado,
Acting Deputy Assistant Secretary for Import Administration.

[FR Doc. 2010-31771 Filed 12-16-10; 8:45 am]

BILLING CODE 3510-DS-P